DEPARTMENT OF HOMELAND SECURITY

Federal Emergency Management Agency

[Docket ID FEMA-2008-0010]

Board of Visitors for the National Fire Academy

AGENCY: Federal Emergency Management Agency, DHS.

ACTION: Committee Management; Notice of Open Federal Advisory Committee Meeting.

SUMMARY: The Board of Visitors for the National Fire Academy (Board) will meet on September 18-19, 2014. The meeting will be open to the public.

DATES: The meeting will take place on Thursday, September 18, 8:30 a.m. to 5:00 p.m. EDT and on Friday, September 19, 8:30 a.m. to 5:00 p.m. EDT. Please note that the meeting may close early if the Board has completed its business.

ADDRESSES: The meeting will be held at the National Emergency Training Center, Building H, Room 300, Emmitsburg, Maryland. Members of the public who wish to obtain details on how to gain access to the facility and directions may contact Cindy Wivell as listed in the FOR FURTHER INFORMATION CONTACT section by close of business September 12, 2014. Picture identification is needed for access. Members of the public may also participate by teleconference and may contact Cindy Wivell to obtain the call-in number and access code. For information on services for individuals with disabilities or to request special assistance, contact Cindy Wivell as soon as possible.

To facilitate public participation, we are inviting public comment on the issues to be considered by the Board as listed in the SUPPLEMENTARY INFORMATION section. Comments must be submitted in writing no later than September 12, and must be identified by Docket ID FEMA-2008-0010 and may be submitted by one of the following methods:

• Federal eRulemaking Portal: http://www.regulations.gov. Follow the instructions for submitting comments.

• Email: FEMA-RULES@fema.dhs.gov. Include the docket number in the subject line of the message.

• Mail/Hand Delivery: Cindy Wivell, 16825 South Seton Avenue, Emmitsburg, Maryland 21727.

Instructions: All submissions received must include the words “Department of Homeland Security” and the Docket ID for this action. Comments received will be posted without alteration at http://www.regulations.gov, including any personal information provided.

Docket: For access to the docket to read background documents or comments received by the National Fire Academy Board of Visitors, go to http://www.regulations.gov, click on “Advanced Search,” then enter “FEMA-2008-0010” in the “By Docket ID” box, then select “FEMA” under “By Agency,” and then click “Search.” Prior to the meeting, and no later than September 10, handouts for the meeting will be posted at http://www.usfa.fema.gov/nfa/about/bov.shtm.

FOR FURTHER INFORMATION CONTACT: Alternate Designated Federal Officer: Denis G. Onieal, telephone (301) 447-1117.

Logistical Information: Cindy Wivell, telephone (301) 447-1157, fax (301) 447-1834, and email Cindy.Wivell@fema.dhs.gov.

SUPPLEMENTARY INFORMATION: The Board of Visitors for the National Fire Academy (Board) will meet on Thursday, September 18, and Friday, September 19, 2014. The meeting will be open to the public. Notice of this meeting is given under the Federal Advisory Committee Act, 5 U.S.C. Appendix.

Purpose of the Board

The purpose of the Board is to review annually the programs of the National Fire Academy (NFA) and advise the Administrator of the Federal Emergency Management Agency (FEMA), through the United States Fire Administrator, of the operation of the NFA and any improvements therein that the Board deems appropriate. In carrying out its responsibilities, the Board examines NFA programs to determine whether these programs further the basic missions that are approved by the Administrator of FEMA, examines the physical plant of the NFA to determine the adequacy of the NFA's facilities, and examines the funding levels for NFA programs. The Board submits a written annual report through the United States Fire Administrator to the Administrator of FEMA. The report provides detailed comments and recommendations regarding the operation of the NFA.

Agenda

On the first day of the meeting, there will be 6 sessions, with deliberations and voting at the end of each session as necessary.

1. The Board will select a Chairperson and Vice Chairperson for Fiscal Year 2015, and the Chairperson will acknowledge the recognition given to the Board of Visitors for the National Fire Academy by the Department of Homeland Security's Committee Management Officer.

2. The Board will then review and give feedback on NFA program activities, including:

• The Managing Officer Program, a new multiyear curriculum that introduces emerging emergency services leaders to personal and professional skills in change management, risk reduction, and adaptive leadership;

• The Executive Fire Officer Program Symposium;

• Scheduling of back-to-back, 6-day classes/one stipend initiative;

• The curriculum development plan for Fiscal Year 2015;

• The curriculum Enterprise Shared Workspace, a database system developed to capture and track course development and revision activities;

• NFA Online, the NFA's web-based learning platform for distance learning courses;

• Mediated course deliveries, which provide NFA training through an instructor facilitated web-based learning environment;

• The Bring-Your-Own-Device program, which allows students to download the student manual to their own personal electronic devices and eliminates the use of paper-based student materials; and

• The Fire and Emergency Services Higher Education Recognition Program.

3. The Board will then receive updates on U.S. Fire Administration data, research, and response support initiatives.

4. The Board will then discuss the Professional Development Subcommittee activities, including the Professional Development Symposium, which brings national training and education audiences together for their annual conference and support initiatives, and the guidelines for work groups within the subcommittee.

5. The BOV will receive annual ethics training.

6. The BOV will discuss deferred maintenance and capital improvements on the National Emergency Training Center campus and Fiscal Year 2015 Budget Request/Budget Planning, as well as tour the campus facility.

On the second day, the Board will conduct classroom visits and engage in an annual report writing session. Deliberations or voting may occur as needed during the report writing session.

There will be a 10-minute comment period after each agenda item; each speaker will be given no more than 2 minutes to speak. Please note that the public comment period may end before the time indicated, following the last call for comments. Contact Cindy Wivell to register as a speaker.

Dated: August 27, 2014.
Denis G. Onieal,
Superintendent, National Fire Academy, United States Fire Administration, Federal Emergency Management Agency.

[FR Doc. 2014-20979 Filed 9-2-14; 8:45 am]

BILLING CODE 9111-45-P